DEPARTMENT OF ENERGY

Federal Energy Regulatory Commission

[Docket Nos. CP02-90-000, CP02-91-000, CP02-92-000, and CP02-93-000]

AES Ocean Express LLC; Notice of Application for Certificates of Public Convenience and Necessity, and for Section 3 Authorization and a Presidential Permit

March 5, 2002.

Take notice that on February 21, 2002, AES Ocean Express LLC (Ocean Express), Two Alhambra Plaza, Suite 1104, Coral Gables, Florida, 33134, filed applications pursuant to Sections 3 and 7(c) of the Natural Gas Act (NGA). Ocean Express is a limited liability company organized under the laws of the State of Delaware. Ocean Express is an indirect, wholly-owned subsidiary of The AES Corporation.

In Docket No. CP02-90-000, Ocean Express seeks a certificate of public convenience and necessity authorizing Ocean Express to construct, own, and operate a new natural gas pipeline under Part 157, Subpart A of the Commission's Regulations. In Docket No. CP02-91-000, Ocean Express seeks a blanket certificate for certain blanket construction and operation authorization under Part 157, Subpart F of the Commission's Regulations. In Docket No. CP02-92-000, Ocean Express seeks a blanket certificate under Part 284, Subpart G of the Commission's Regulations for self-implementing transportation authority. In Docket No. CP02-93-000, Ocean Express seeks a Presidential Permit and Section 3 authorization pursuant to Part 153 of the Commission's Regulations.

The Applications are on file with the Commission and open to public inspection. The filings may be viewed on the web at http://www.ferc.gov using the “RIMS” link, selecting “Docket #” and following the instructions (please call (202) 208-2222 for assistance). Any questions regarding the application may be directed to Kimberly Hall, AES Ocean Express LLC, Two Alhambra Plaza, Suite 1104, Coral Gables, FL 33134, (305) 444-4002.

In Docket No. CP02-90-000, Ocean Express requests authorization to construct, own, and operate a new 24-inch diameter, approximately 52.4-mile interstate natural gas pipeline, consisting of a 46.1 mile offshore segment and a 6.3-mile onshore segment.

The offshore pipeline will extend from Exclusive Economic Zone (EEZ) boundary between the United States and The Bahamas in the Atlantic Ocean, off the southeast Florida coastline¹ to the Dania Beach Boulevard traffic circle in Broward County, Florida. After making landfall at the Dania Beach Boulevard traffic circle, the proposed pipeline will continue onshore, in a westward direction, to two delivery points: (i) an interconnection with the Florida Gas Transmission (FGT) system at the Florida Power & Light (FPL) Fort Lauderdale Power Plant, and (ii) an interconnection with the FPL gas line servicing the FPL Fort Lauderdale Power Plant. Ocean Express' proposed pipeline is designed to transport up to 824,000 Dth/day.

¹ The EEZ is defined in the 1995 Department of State Public Notice 2237—Exclusive Economic Zone and Maritime Boundaries; Notice of Limits U.S. Atlantic Coast and Gulf of Mexico. See 60 Fed. Reg. ¶ 43,825 (1995).

Ocean Express states that it will receive, at the EEZ boundary, natural gas transported by an approximately 40.4-mile nonjurisdictional pipeline beginning at a liquefied natural gas (LNG) receiving, storage and regasification facility in Ocean Cay, The Bahamas. Ocean Express states that the nonjurisdictional, foreign pipeline and LNG facility will be constructed, owned and operated by its Bahamian affiliate, AES Ocean LNG, Ltd.

Ocean Express estimates that the total capital cost of constructing the United States part of the pipeline and appurtenant facilities in the United States will be about $93 million. Ocean Express also filed a pro forma FERC Gas Tariff showing the initial rate for firm transportation service of a $0.0456/Dth reservation charge. The rate for interruptible service is the 100% load factor equivalent of the firm service rate. The pro forma tariff also contains the terms and conditions of the transportation services proposed to be offered by Ocean Express.

Ocean Express says it conducted an open season from September 18, 2001 through October 18, 2001 to receive requests and obtain binding commitments for transportation capacity. As a result, Ocean Express received six requests for additional information on the project, and two bids for capacity. Ocean Express says that only AES LNG Marketing, L.L.C. submitted a conforming bid, resulting in an executed precedent agreement for 800,000 Dth/day.

Ocean Express says that it has consulted with numerous interested stakeholders through the course of developing its project in order to avoid or minimize negative impacts to surrounding communities. Ocean Express has identified a total of fifteen landowners and governmental agencies that could be directly affected by the proposed pipeline. Ocean Express states it will maintain contact with these landowners throughout the course of its project. Ocean Express also states that it will employ construction techniques that minimize environmental impacts. Ocean Express states that it intends to utilize horizontal directional drilling (HDD) technology to construct the approximately 7880 feet of offshore pipeline closest to shore, and explains that use of the HDD technology will avoid or minimize construction-related impact to reef structures near the shore. Ocean Express states it is also using HDD technology for various portions of its onshore route to minimize impacts.

Ocean Express also seeks NGA Section 3 authority and a Presidential Permit to construct, own, operate, and maintain a 24-inch pipeline at the U.S.-Bahamian boundary. Ocean Express states that it will connect with AES Ocean LNG, Ltd., its Bahamian affiliate, at the EEZ boundary between the U.S. and The Bahamas, and that any facilities considered to be “border facilities” will be a segment of 24-inch diameter at that location on the EEZ boundary.

Ocean Express requests that the Commission issue a preliminary determination on non-environmental issues by July 2002, and a final certificate authorization by March 2003. Ocean Express says that this will allow construction to be completed by a proposed in-service date of November 1, 2004. This proposed in-service date depends on the timing of financing commitments. If financing commitments cannot be secured on the basis of a preliminary determination issued by the Commission, then Ocean Express proposes an alternative in-service date of March 1, 2005 because of such commercial considerations.

There are two ways to become involved in the Commission's review of this project. First, any person wishing to obtain legal status by becoming a party to the proceedings for this project should, on or before March 26, 2002, file with the Federal Energy Regulatory Commission, 888 First Street, NE., Washington, DC, 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to take, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-5718 Filed 3-11-02; 8:45 am]

BILLING CODE 6717-01-P